ENVIRONMENTAL PROTECTION AGENCY

[Docket# EPA-RO4-SFUND-2007-0919; FRL-8469-5]

Davis Refining Superfund Site; Tallahassee, Leon County, FL; Notice of Settlements

AGENCY: Environmental Protection Agency (EPA).

ACTION: Notice of settlements.

SUMMARY: Under section 122(h)(1) of the Comprehensive Environmental Response, Compensation and Liability Act (CERCLA), the United States Environmental Protection Agency has entered into six settlements for reimbursement of past response costs concerning the Davis Refining Superfund Site located in Tallahassee, Leon County, Florida. The settling PRPs are: Middlebrooks Relocation Systems, Inc., Curt Masek and Radical Car Care, Pafford Oil Company, Williams Concrete Construction, Inc., Southside Mower & Magneto Repair, Inc., and Thelma Thompson.

DATES: The Agency will consider public comments on the settlements until October 18, 2007. The Agency will consider all comments received and may modify or withdraw its consent to the settlements if comments received disclose facts or considerations which indicate that the settlements are inappropriate, improper, or inadequate.

ADDRESSES: Copies of the settlements are available from Ms. Paula V. Batchelor. Submit your comments, identified by Docket ID No. EPA-RO4-SFUND-2007-0919 or Site name Davis Refining Superfund Site by one of the following methods:

• http://www.regulations.gov: Follow the on-line instructions for submitting comments.

• E-mail: Batchelor.Paula@epa.gov.

• Fax: 404-562-8842. Attn: Paula V. Batchelor.

• Mail: Ms. Paula V. Batchelor, U.S. EPA Region 4, SD-SEIMB, 61 Forsyth Street, SW., Atlanta, Georgia 30303. “In addition, please mail a copy of your comments on the information collection provisions to the Office of Information and Regulatory Affairs, Office of Management and Budget (OMB), Attn: Desk Officer for EPA, 725 17th St., NW., Washington, DC 20503.”

Instructions: Direct your comments to Docket ID No. EPA-R04-SFUND-2007-0919. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. EPA Region 4 office located at 61 Forsyth Street, SW., Atlanta, Georgia 30303. Regional office is open from 7 a.m. until 6:30 p.m. Monday through Friday, excluding legal holidays.

Written comments may be submitted to Ms. Batchelor within 30 calendar days of the date of this publication.

FOR FURTHER INFORMATION CONTACT: Paula V. Batchelor at 404/562-8887.

Dated: September 4, 2007.
De'Lyntoneus Moore,
Acting Chief, Superfund Enforcement & Information Management Branch, Superfund Division.

[FR Doc. E7-18351 Filed 9-17-07; 8:45 am]

BILLING CODE 6560-50-P